DEPARTMENT OF STATE

[Public Notice 4763]

Determination Pursuant to Executive Order 13224 Relating to Continuity Irish Republican Army

In consultation with the Secretary of the Treasury, the Attorney General, and the Secretary of Homeland Security, I have amended the designation of Continuity Irish Republican Army pursuant to Executive Order 13224 to add the following names as aliases: Continuity Army Council; Republican Sinn Fein.

Consistent with the determination in section 10 of Executive Order 13224 that “prior notice to persons determined to be subject to the Order who might have a constitutional presence in the United States would render ineffectual the blocking and other measures authorized in the Order because of the ability to transfer funds instantaneously,” no prior notice need be provided to any person subject to this determination who might have a constitutional presence in the United States, because to do so would render ineffectual the measures authorized in the Order.

Dated: July 9, 2004.
Colin L. Powell,
Secretary of State, Department of State.

[FR Doc. 04-16081 Filed 7-13-04; 8:45 am]

BILLING CODE 4710-10-P